FEDERAL RETIREMENT THRIFT INVESTMENT BOARD

Notice of Board Meeting

DATES: April 23, 2024 at 10:00 a.m. EDT.

ADDRESSES: Telephonic. Dial-in (listen only) information: Number: 1-202-599-1426, Code: 624 061 844#; or via web:

https://teams.microsoft.com/l/meetup-join/19%3ameeting_MmRmZjZhNTAtNGRjNi00ZWM5LTlmZjEtNTIxOGIxZTAxYTZj%40thread.v2/0?context=%7b%22Tid%22%3a%223f6323b7-e3fd-4f35-b43d-1a7afae5910d%22%2c%22Oid%22%3a%221a441fb8-5318-4ad0-995b-f28a737f4128%22%7d

FOR FURTHER INFORMATION CONTACT: Kimberly Weaver, Director, Office of External Affairs, (202) 942-1640.

SUPPLEMENTARY INFORMATION:

Board Meeting Agenda

Open Session

1. Approval of the March 26, 2024, Board Meeting Minutes

2. Investment Manager Annual Service Review

3. Monthly Reports

(a) Participant Report

(b) Legislative Report

4. Quarterly Reports

(c) Investment Review

(d) Budget Review

(e) Audit Status

5. Internal Audit Update

6. OCFO Annual Presentation

Closed Session

7. Information covered under 5 U.S.C. 552b (c)(9)(B) and (c)(10).

Authority: 5 U.S.C. 552b (e)(1).

Dated: April 12, 2024.
Dharmesh Vashee,
General Counsel, Federal Retirement Thrift Investment Board.

[FR Doc. 2024-08158 Filed 4-16-24; 8:45 am]

BILLING CODE P